ENVIRONMENTAL PROTECTION AGENCY

40 CFR Part 282

[FRL-7909-5]

Underground Storage Tank Program: Approved State Program for Minnesota

AGENCY: Environmental Protection Agency (EPA).

ACTION: Immediate final rule.

SUMMARY: The Resource Conservation and Recovery Act of 1976, as amended (RCRA), authorizes EPA to grant approval to States to operate their underground storage tank programs in lieu of the Federal program. Title 40 of the Code of Federal Regulations (40 CFR) part 282 codifies EPA's decision to approve State programs and incorporates by reference those provisions of the State statutes and regulations that will be subject to EPA's inspection and enforcement authorities in accordance with sections 9005 and 9006 of RCRA Subtitle I and other applicable statutory and regulatory provisions. This rule codifies in 40 CFR part 282 the prior approval of the State of Minnesota's underground storage tank program and incorporates by reference appropriate provisions of State statutes and regulations.

DATES: This regulation is effective July 25, 2005, unless EPA publishes a prior Federal Register notice withdrawing this immediate final rule. All comments on the codification of Minnesota's underground storage tank program must be received by the close of business June 23, 2005. The incorporation by reference of certain publications listed in the regulations is approved by the Director of the Federal Register, as of July 25, 2005, in accordance with 5 U.S.C. 552(a).

ADDRESSES: Send written comments to Andrew Tschampa, U.S. EPA Region 5, Mailcode DU-7J, 77 West Jackson Blvd., Chicago, IL 60604. Comments may also be submitted electronically through the Internet to: tschampa.andrew@epa.gov or by facsimile at (312) 353-3159. You can examine copies of the codification materials during normal business hours at the following location: EPA Region 5, 77 West Jackson Blvd., Chicago, IL 60604. Phone (312) 886-6136.

FOR FURTHER INFORMATION CONTACT: Andrew Tschampa, U.S. EPA Region 5, Mailcode DU-7J, 77 West Jackson Blvd., Chicago, IL 60604. Phone (312) 886-6136.

SUPPLEMENTARY INFORMATION:

Background

Section 9004 of RCRA, 42 U.S.C. 6991c, allows the EPA to approve a State underground storage tank program to operate in the State in lieu of the Federal underground storage tank program. EPA published a rule in the Federal Register granting approval to Minnesota on November 30, 2001, and approval was effective on December 31, 2001 (66 FR 59713).

EPA codifies its approval of a State program in 40 CFR part 282 and incorporates by reference therein the State's statutes and regulations that make up the approved program which is federally-enforceable in accordance with sections 9005 and 9006 of Subtitle I of RCRA, 42 U.S.C. 6991d and 6991e, and other applicable statutory and regulatory provisions. Today's rulemaking codifies EPA's approval of Minnesota's underground storage tank program. This codification reflects the State program in effect at the time EPA granted Minnesota's approval, in accordance with section 9004(a), 42 U.S.C. 6991c(a), for its underground storage tank program. Notice and opportunity for comment were provided earlier on the Agency's decision to approve the Minnesota program, and EPA is not now reopening that decision nor requesting comment on it.

To codify EPA's approval of Minnesota's underground storage tank program, EPA has added section 282.73 to title 40 of the CFR. 40 CFR 282.73(d)(1)(i) incorporates by reference the State's statutes and regulations that make up the approved program which is federally-enforceable. 40 CFR 282.73 also references the Attorney General's Statement, the Demonstration of Adequate Enforcement Procedures, the Program Description, and the Memorandum of Agreement, which were evaluated as part of the approval process of the underground storage tank program, in accordance with Subtitle I of RCRA.

EPA retains the authority in accordance with sections 9005 and 9006 of Subtitle I of RCRA, 42 U.S.C. 6991d and 6991e, and other applicable statutory and regulatory provisions, to undertake inspections and enforcement actions in approved States. With respect to such an enforcement action, EPA will rely on Federal sanctions, Federal inspection authorities, and Federal procedures rather than the State analogues to these provisions. Therefore, Minnesota's inspection and enforcement authorities are not incorporated by reference, nor are they part of Minnesota's approved state program which operates in lieu of the Federal program. These authorities, however, are listed in 40 CFR 282.73(d)(1)(ii) for informational purposes, and also because EPA considered them in determining the adequacy of Minnesota's enforcement authority. Minnesota's authority to inspect and enforce the State's underground storage tank requirements continues to operate independently under State law.

Some provisions of the State's underground storage tank program are not part of the federally-approved State program. These non-approved provisions are not part of the RCRA Subtitle I program because they are “broader in scope” than Subtitle I of RCRA. See 40 CFR 281.12(a)(3)(ii). As a result, State provisions which are “broader in scope” than the Federal program are not incorporated by reference for purposes of Federal enforcement in 40 CFR part 282. Section 282.73(d)(1)(iii) of the codification simply lists for reference and clarity the Minnesota statutory and regulatory provisions which are “broader in scope” than the Federal program and which are not, therefore, part of the approved program being codified today. “Broader in scope” provisions cannot be enforced by EPA; the State, however, will continue to enforce such provisions.

When the phrases, “insofar” and “except insofar,” are used in Appendix A (which provides an informational listing of the state requirements incorporated by reference in Part 282 of the Code of Federal Regulations), refer to the binders in the codification materials for specifics as to any words, phrases, sentences, paragraphs, or subsections that are “crossed-out” in the binders. These crossed-out materials are not incorporated by reference in Part 282 of the Code of Federal Regulations.

Statutory and Executive Order Reviews: This rule only codifies EPA-authorized underground storage tank program requirements pursuant to RCRA section 9004 and imposes no requirements other than those imposed by State law (see Supplementary Information). Therefore, this rule complies with applicable executive orders and statutory provisions as follows. 1. Executive Order 12866: Regulatory Planning Review—The Office of Management and Budget has exempted this rule from its review under Executive Order (EO) 12866. 2. Paperwork Reduction Act—This rule does not impose an information collection burden under the Paperwork Reduction Act. 3. Regulatory Flexibility Act—After considering the economic impacts of today's rule on small entities under the Regulatory Flexibility Act, I certify that this rule will not have a significant economic impact on a substantial number of small entities. 4. Unfunded Mandates Reform Act—Because this rule codifies pre-existing requirements under state law and does not impose any additional enforceable duty beyond that required by state law, it does not contain any unfunded mandate or significantly or uniquely affect small governments, as described in the Unfunded Mandates Reform Act. 5. Executive Order 13132: Federalism—EO 13132 does not apply to this rule because it will not have federalism implications (i.e., substantial direct effects on the States, on the relationship between the national government and the States, or on the distribution of power and responsibilities among the various levels of government). 6. Executive Order 13175: Consultation and Coordination with Indian Tribal Governments—EO 13175 does not apply to this rule because it will not have tribal implications (i.e., substantial direct effects on one or more Indian tribes, on the relationship between the Federal Government and Indian tribes, or on the distribution of power and responsibilities between the Federal Government and Indian tribes). 7. Executive Order 13045: Protection of Children from Environmental Health & Safety Risks—This rule is not subject to EO 13045 because it is not economically significant and it is not based on health or safety risks. 8. Executive Order 13211: Actions that Significantly Affect Energy Supply, Distribution, or Use—This rule is not subject to EO 13211 because it is not a significant regulatory action as defined in EO 12866. 9. National Technology Transfer And Advancement Act—EPA has previously addressed the non-applicability of the National Technology Transfer and Advancement Act in its final approval of this state program. See 66 FR 59713. Section 12(d) of the National Technology Transfer and Advancement Act does not apply to this rule. 10. Congressional Review Act—EPA will submit a report containing this rule and other information required by the Congressional Review Act (5 U.S.C. 801 et seq.) to the U.S. Senate, the U.S. House of Representatives, and the Comptroller General of the United States prior to publication in the Federal Register. A major rule cannot take effect until 60 days after it is published in the Federal Register. This action is not a “major rule” as defined by 5 U.S.C. 804(2). Nevertheless, to allow time for public comment, this action will be effective on July 25, 2005.

List of Subjects in 40 CFR Part 282

Environmental protection, Hazardous substances, Incorporation by reference, Intergovernmental relations, State program approval, Underground storage tanks, Water pollution control.

Dated: April 22, 2005.
Norman Niedergang,
Acting Regional Administrator, Region 5.

For the reasons set forth in the preamble, 40 CFR part 282 is amended as follows:

PART 282—APPROVED UNDERGROUND STORAGE TANK PROGRAMS

1. The authority citation for part 282 continues to read as follows:

Authority: 42 U.S.C. 6912, 6991c, 6991d, and 6991e.

Subpart B—Approved State Programs

2. Subpart B is amended by adding § 282.73 to read as follows:

§ 282.73 Minnesota State-Administered Program.

(a) The State of Minnesota's underground storage tank program is approved in lieu of the Federal program in accordance with Subtitle I of the Resource Conservation and Recovery Act of 1976 (RCRA), as amended, 42 U.S.C. 6991 et seq. The State's program, as administered by the Minnesota Pollution Control Agency, was approved by EPA pursuant to 42 U.S.C. 6991c and part 281 of this chapter. EPA approved the Minnesota underground storage tank program on November 30, 2001, and approval was effective on December 31, 2001.

(b) Minnesota has primary responsibility for enforcing its underground storage tank program. However, EPA retains the authority to exercise its inspection and enforcement authorities in accordance with sections 9005 and 9006 of Subtitle I of RCRA, 42 U.S.C. 6991d and 6991e, regardless of whether the State has taken its own actions, as well as in accordance with other statutory and regulatory provisions.

(c) To retain program approval, Minnesota must revise its approved program to adopt new changes to the Federal Subtitle I program that make it more stringent, in accordance with section 9004 of RCRA, 42 U.S.C. 6991c, and 40 CFR part 281, subpart E. If Minnesota obtains approval for the revised requirements pursuant to section 9004 of RCRA, 42 U.S.C. 6991c, the newly approved statutory and regulatory provisions will be added to this subpart and notice of any change will be published in the Federal Register.

(d) Minnesota has final approval for the following elements submitted to EPA in the State's program application for final approval. On November 30, 2001, EPA published a rule approving the State's program in the Federal Register, 66 FR 59713. That approval became effective on December 31, 2001. Copies of Minnesota's program application may be obtained from the Minnesota Pollution Control Agency, UST/LUST Program, 520 Lafayette Road North, St. Paul, MN 55155-3898.

(1) State statutes and regulations. (i) The provisions cited in paragraph (d)(1)(i) of this section are incorporated by reference as part of the approved underground storage tank program in accordance with Subtitle I of RCRA, 42 U.S.C. 6991 et seq.

(A) Minnesota Statutory Requirements Applicable to the Underground Storage Tank Program, 2000.

(B) Minnesota Regulatory Requirements Applicable to the Underground Storage Tank Program, 2000.

(ii) EPA considered the following statutes and regulations in evaluating the State program, but did not incorporate them by reference.

(A) The statutory provisions include:

(1) Minnesota Statutes, Chapter 13, Government Data Practices

M. S. 13.08 Civil remedies

M. S. 13.09 Penalties

(2) Minnesota Statutes, Chapter 115, Water Pollution Control; Sanitary Districts

M. S. 115.04 Disposal Systems and Point Sources; subd. 1, 2, 3: Information; Examination of records; Access to premises

M. S. 115.071 Enforcement

M. S. 115.072 Recovery of Litigation Costs and Expenses

(3) Minnesota Statutes, Chapter 115B, Environmental Response and Liability

M. S. 115B.17 State response to releases; subd. 4: Access to information and property

M. S. 115B.175 Voluntary Response Actions; Liability Protection; Procedures

M. S. 115B.177 Owner of Real Property Affected by Off-Site Release

M. S. 115B.178 Association with Release; Commissioner's Determination

M. S. 115B.18 Failure to Take Requested Action; Civil Penalties; Action to Compel Performance; Injunctive Relief

(4) Minnesota Statutes, Chapter 115C, Petroleum Tank Release Cleanup

M. S. 115C.04 Liability for Response Costs

M. S. 115C.05 Civil Penalty

M. S. 115C.09 Reimbursement; subd. 5(b), 6: Return of reimbursement; Fraud

M. S. 115C.113 Orders

M. S. 115C.12 Appeal of reimbursement determination

(5) Minnesota Statutes, Chapter 116, Pollution Control Agency

M. S. 116.07 Powers and Duties; subd. 9(b): Orders; investigations

M. S. 116.072 Administrative Penalties

M. S. 116.073 Field Citations

M. S. 116.091 Systems and Facilities

M. S. 116.11 Emergency Powers

(6) Minnesota Statutes, Chapter 116B, Environmental Rights

M. S. 116B.03 Civil Actions

M. S. 116B.07 Relief

(B) The regulatory provisions include:

(1) Minnesota Rules of Civil Procedure

Rule 24.01 Intervention of Right

Rule 24.02 Permissive Intervention

(2) Minnesota Rules, Chapter 2890, Petroleum Tank Releases

2890.0100 Review and Determination

2890.0110 Right to Appeal

2890.0130 Action on Notice of Lien Filing

(3) Minnesota Rules, Chapter 7000, Procedural Rule

M. S. 7000.0300 Duty of Candor

M. S. 7000.0900 Informal Complaints

M. S. 7000.1200 Inspection of Public Records

M. S. 7000.1300 Confidential Information

(iii) The following statutory and regulatory provisions are broader in scope than the Federal program, are not part of the approved program, and are not incorporated by reference. These provisions are not federally enforceable.

(A) The statutory provisions include:

(1) Minnesota Statutes, Chapter 115C, Petroleum Tank Release Cleanup

M. S. 115C.03 Response to releases [insofar as subd. 10 imposes recordkeeping requirements on contractors and consultants.]

M. S. 115C.045 Kickbacks [insofar as it applies to individuals other than UST system owners and operators.]

M. S. 115C.065 Consultants' or Contractors' duty to notify [insofar as it imposes notification requirements on contractors and consultants.]

M. S. 115C.08 Petroleum tank fund [insofar as subd. 3 imposes a petroleum tank release cleanup fee on petroleum distributors.]

M. S. 115C.11 Consultants and contractors; sanctions [insofar as it applies to individuals other than UST system owners and operators.]

M. S. 115C.111 Consultant and contractor sanctions; actions based on conduct occurring before March 14, 1996 [insofar as it applies to individuals other than UST system owners and operators.]

M. S. 115C.112 Consultant and contractor sanctions; actions based on conduct occurring on and after March 14, 1996 [insofar as it applies to individuals other than UST system owners and operators.]

(2) Minnesota Statutes, Chapter 116, Pollution Control Agency

M. S. 116.46 Definitions [insofar as subd. 8 includes vessels, enclosures, or structures—which are exempt from the federal program—in the definition of UST.]

M. S. 116.47 Exemptions [insofar as paragraph (2) does not exclude from regulation USTs of 1,100 gallon capacity or more used to store heating oil for consumptive use.]

M. S. 116.48 Notification requirements [insofar as subd. 1(b) requires that the owner of an AST must notify the MPCA of the tank's status.]

M. S. 116.48 Notification requirements [insofar as subd. 2 imposes requirements on owners who discover an abandoned AST.]

M. S. 116.48 Notification requirements [insofar as subd. 3 imposes notification requirements on owners of ASTs removing a tank from service or changing the tank's service.]

M. S. 116.48 Notification requirements [insofar as subd. 4 places notification requirements on persons transferring the title to regulated substances to be placed directly into an UST.]

M. S. 116.48 Notification requirements [insofar as subd. 5 imposes notification requirements on sellers of ASTs.]

M. S. 116.48 Notification requirements [insofar as subd. 6 imposes notification requirements on owners who plan to transfer ownership of property containing an AST.]

M. S. 116.491 Tank installers training and certification [insofar as it applies to individuals other than UST system owners and operators.]

M. S. 116.492 Basement storage tanks; removal [insofar as it applies to a class of tanks not regulated under the federal program.]

(B) The regulatory provisions include:

(1) Minnesota Rules, Chapter 7105—Minnesota Pollution Control Agency, Water Quality Division, Underground Storage Tanks: Training (In addition to the other specific reasons noted, the following sections of Chapter 7105 are broader in scope, insofar as they set forth training requirements for persons not regulated under the federal program.)

7105.0010 Definitions [insofar as subp. 25 includes vessels, enclosures, and structures—which are exempt from the federal program—in the definition of UST.]

7105.0030 General Provisions; Certification requirements and deadlines; Certificate availability [insofar as subp. 1 and 2 require training for individuals not regulated under the federal program.]

7105.0040 Exclusions [insofar as it does not exclude from regulation heating oil storage tanks with a capacity of greater than 1,100 gallons.]

7105.0050 Contractor Certification

7105.0060 Supervisor Certification

7105.0070 Standards of Performance

7105.0080 Storage Tank Service Provider Training Course Requirements

7105.0090 Examinations and Diplomas

7105.0100 Approval of Certification Training Courses

7105.0110 Sanctions

7105.0120 Fees

7105.0130 Incorporation by Reference

(2) Minnesota Rules, Chapter 7150—Minnesota Pollution Control Agency, Water Quality Division, Underground Storage Tanks Program

7150.0010 Applicability [insofar as subp. 2 does not exclude from regulation liquid traps or associated gathering lines directly related to oil and gas production and gathering operations.]

7150.0010 Applicability [insofar as subp. 2(H) does not exclude from regulation heating oil storage tanks with a storage capacity of greater than 1,100 gallons.]

7150.0010 Applicability [insofar as subp. 5 does not exclude owners and operators of heating oil storage tanks with a storage capacity of greater than 1,100 gallons from notification requirements.]

7150.0030 Definitions [insofar as subp. 51 includes vessels, enclosures, and structures—which are exempt from the federal program—in the definition of UST.]

7150.0300 General Requirements for All Underground Storage Tank Systems [insofar as subp. 3 imposes release detection schedule requirements on hazardous material tanks not regulated under the federal program.]

(3) Minnesota Rules, Chapter 7510—Department of Public Safety, Fire Marshal Division, Fire Safety

7510.3670 Liquefied Petroleum Gases; Section 8203: Installation of Containers [insofar as it regulates ASTs.]

(2) Statement of legal authority. (i) “Attorney General's Statement,” signed by the State Attorney General on September 12, 2000, though not incorporated by reference, is referenced as part of the approved underground storage tank program in accordance with Subtitle I of RCRA, 42 U.S.C. 6991 et seq.

(ii) Letter from the Attorney General of Minnesota to EPA, September 12, 2000, though not incorporated by reference, is referenced as part of the approved underground storage tank program in accordance with Subtitle I of RCRA, 42 U.S.C. 6991 et seq.

(3) Demonstration of procedures for adequate enforcement. The “Demonstration of Procedures for Adequate Enforcement” submitted as part of the original application on May 11, 2000, though not incorporated by reference, is referenced as part of the approved underground storage tank program in accordance with Subtitle I of RCRA, 42 U.S.C. 6991 et seq.

(4) Program Description. The program description and any other material submitted as part of the original application on May 11, 2000, though not incorporated by reference, are referenced as part of the approved underground storage tank program in accordance with Subtitle I of RCRA, 42 U.S.C. 6991 et seq.

(5) Memorandum of Agreement. The Memorandum of Agreement between EPA Region 5 and the Minnesota Pollution Control Agency, signed by the EPA Regional Administrator on November 14, 2001, though not incorporated by reference, is referenced as part of the approved underground storage tank program in accordance with Subtitle I of RCRA, 42 U.S.C. 6991 et seq.

3. Appendix A to Part 282 is amended by adding in alphabetical order “Minnesota” and its listing.

Appendix A to Part 282—State Requirements Incorporated by Reference in Part 282 of the Code of Federal Regulations

* * * * *

Minnesota

(a) The statutory provisions include:

(1) Minnesota Statutes, Chapter 13, Government Data Practices

M. S. 13.01 Government Data

M. S. 13.02 Collection, security, and dissemination of records; definitions

M. S. 13.03 Access to government data

M. S. 13.04 Rights of subjects of data

M. S. 13.05 Duties of responsible authority

M. S. 13.06 Temporary classification

M. S. 13.07 Duties of the commissioner

M. S. 13.3806 Public health data coded elsewhere; subd. 1-3, 6, 10, 20: Scope; Certain epidemiologic studies; Public health studies; Health records; Health threat procedures; Hazardous substance exposure

M. S. 13.741 Pollution control; environmental quality data

M. S. 13.7411 Pollution control and environmental quality data coded elsewhere; subd. 1-3, 5-7: Scope; Environmental audits, performance schedules; Office of environmental assistance; Environmental response and liability; Petroleum tank release; Toxic pollution prevention plans

(2) Minnesota Statutes, Chapter 115, Water Pollution Control; Sanitary Districts

M. S. 115.01 Definitions

M. S. 115.061 Duty to notify and avoid water pollution

(3) Minnesota Statutes, Chapter 115B, Environmental Response and Liability

M. S. 115B.17 State Response to Releases; subd. 1-3, 12-14: Removal and remedial action; Other actions; Cleanup standards; Public notice of proposed response actions; Duty to provide information; Authorization of certain response actions; Priorities; rules; Requests for review, investigation, and oversight

(4) Minnesota Statutes, Chapter 115C, Petroleum Tank Release Cleanup

M. S. 115C.01 Citation

M. S. 115C.02 Definitions

M. S. 115C.021 Responsible person

M. S. 115C.03 Response to releases [except subd. 10 insofar as it applies to contractors and consultants, who are not regulated under the federal program.]

M. S. 115C.06 Effect on other law

M. S. 115C.07 Petroleum tank release compensation board

M. S. 115C.08 Petroleum tank fund [except subd. 3, which imposes a petroleum tank release cleanup fee on petroleum distributors]

M. S. 115C.09 Reimbursement [except subd. 5(b) and 6, which set forth enforcement authorities]

M. S. 115C.092 Tank Removals; Payment for pre-removal site assessment

(5) Minnesota Statutes, Chapter 115E, Oil and Hazardous Substance Discharge Preparedness

M. S. 115E.01 Definitions

M. S. 115E.02 Duty to prevent discharges

(6) Minnesota Statutes, Chapter 116, Pollution Control Agency

M. S. 116.06 Definitions

M. S. 116.46 Definitions [except subd. 8, insofar as it includes vessels, enclosures, or structures—which are exempt from the federal program—in the definition of UST.]

M. S. 116.47 Exemptions [except insofar as paragraph (2) does not exclude from regulation tanks of 1,100 gallon capacity or more used to store heating oil for consumptive purposes]

M. S. 116.48 Notification requirements [except subd. 1(b), insofar as it requires owners of aboveground storage tanks (ASTs) to notify the agency of the tank's status; subd. 2 and 6, insofar as they impose requirements on owners of ASTs; subd. 3, insofar as it imposes notification requirements on owners of ASTs removing a tank from service or changing the tank's service; subd. 4, insofar as it places notification requirements on persons transferring the title to regulated substances to be placed directly into an UST; and subd. 5, insofar as it imposes notification requirements on sellers of ASTs.]

M. S. 116.49 Environmental protection requirements

(7) Minnesota Statutes, Chapter 299F, Fire Marshal

M. S. 299F.011 Uniform Fire Code; adoption; subd. 1, 3, 4: Authority; Rules for code administration and enforcement; Applicability; local authority

M. S. 299F.19 Flammable liquids and explosives; subd. 1: Rules

(b) The regulatory provisions include:

(1) Minnesota Rules, Chapter 2890, Petroleum Tank Releases

2890.0010 Definitions

2890.0060 Reimbursement of Costs

2890.0065 Reduction of Reimbursement Amount

2890.0070 Eligible Costs

2890.0071 Ineligible Costs

2890.0072 Overview of Rules Governing Reasonableness of Costs for Consultant Services

2890.0073 Definitions Related to Consultant Services

2890.0074 Written Proposal and Invoice Required for Consultant Services

2890.0075 Reasonableness of Work Performed; Standard Tasks for Each Step of Consultant Services

2890.0076 Maximum Costs for Consultant Services

2890.0077 Competitive Bidding Requirements for Consultant Services Proposals

2890.0078 Deviations from Standard Tasks and Maximum Costs for Consultant Services

2890.0079 Reasonable, Necessary, and Actual Consultant Services Costs

2890.0080 Overview of Rules Governing Reasonableness of Costs for Contractor Services

2890.0081 Definitions Related to Contractor Services

2890.0082 Maximum Costs for Contractor Services

2890.0083 Competitive Bidding Requirements for Contractor Services

2890.0084 Deviations from Maximum Costs for Contractor Services

2890.0085 Reasonable, Necessary, and Actual Costs

2890.0086 Invoice

2890.0089 Exemptions from Competitive Bidding

2890.0090 Application Process

2890.0120 Funding of MPCA Actions

(2) Minnesota Rules, Chapter 7045—Minnesota Pollution Control Agency, Hazardous Waste Division, Hazardous Waste

7045.0275 Management of Hazardous Waste Spills

(3) Minnesota Rules, Chapter 7060-Minnesota Pollution Control Agency, Water Quality Division, Underground Waters

7060.0300 Definitions

7060.0500 Nondegradation Policy

7060.0600 Standards; subp. 2, 3, 4: Prohibition against discharge into unsaturated zone; Control measures; Toxic pollutants

7060.0800 Determination of Compliance

(4) Minnesota Rules, Chapter 7105-Minnesota Pollution Control Agency, Water Quality Division, Underground Storage Tanks: Training

7105.0010 Definitions [except subp. 25, insofar as it includes vessels, enclosures, and structures—which are exempt from the federal program—in the definition of UST.]

7105.0020 Purpose

7105.0030 General Provisions; subp. 3: Tank owner or operator requirements

7105.0040 Exclusions [except insofar as it does not exclude from regulation heating oil storage tanks with a storage capacity of greater than 1,100 gallons.]

(5) Minnesota Rules, Chapter 7150—Minnesota Pollution Control Agency, Water Quality Division, Underground Storage Tanks Program

7150.0010 Applicability [except subp. 2, insofar as it does not exclude from regulation liquid traps or associated gathering lines directly related to oil or gas production or gas production and gathering operations; subp. 2(H), insofar as it does not exclude from regulation tanks of 1,100 gallons or more used exclusively for storing heating oil for consumptive use; and subp. 5, insofar as it does not exclude owners and operators of heating oil storage tanks with a storage capacity of greater than 1,100 gallons from notification requirements.]

7150.0020 Interim Standards for Deferred Underground Storage Tank Systems

7150.0030 Definitions [except subp. 51, insofar as it includes vessels, enclosures, and structures—which are exempt from the federal program—in the definition of underground storage tanks]

7150.0100 Performance Standards for New Underground Storage Tank Systems

7150.0110 Upgrading of Existing Underground Storage Tank Systems

7150.0120 Notification Requirements

7150.0200 Spill and Overfill Control

7150.0210 Operation and Maintenance of Corrosion Protection

7150.0220 Compatibility

7150.0230 Repairs Allowed

7150.0240 Reporting and Recordkeeping

7150.0300 General Requirements for All Underground Storage Tank Systems [except subp. 3, insofar as it imposes release detection schedule requirements on hazardous material tanks not regulated under the federal program]

7150.0310 Requirements for Petroleum Underground Storage Tank Systems

7150.0320 Requirements for Hazardous Material Underground Storage Tank Systems

7150.0330 Methods of Release Detection for Tanks

7150.0340 Methods of Release Detection for Piping

7150.0350 Release Detection Recordkeeping

7150.0400 Temporary Closure

7150.0410 Permanent Closure and Changes-in-Service to Storage of Nonregulated Substances

7150.0420 Assessing the Site at Closure or Change in Service

7150.0430 Applicability to Previously Closed Underground Storage Tank Systems

7150.0440 Closure Records

(6) Minnesota Rules, Chapter 7510—Department of Public Safety, Fire Marshal Division, Fire Safety

7510.3670 Liquefied Petroleum Gases; Section 8203: Installation of containers [except insofar as it regulates ASTs]

[FR Doc. 05-10341 Filed 5-23-05; 8:45 am]

BILLING CODE 6350-50-P